DEPARTMENT OF THE INTERIOR

Bureau of Land Management

[MT-070-1020-PG]

Notice of Meeting

AGENCY: Bureau of Land Management (BLM), Montana, Butte, Dillon, and Missoula Field Offices, Interior.

ACTION: Notice of meeting.

SUMMARY: The Western Montana Resource Advisory Council will have a meeting on January 15, 2002, at the BLM—Butte Field Office Conference Room, 106 North Parkmont, Butte, Montana starting at 9 a.m. Primary agenda topics include orientation for new members and the Dillon Resource Management Plan.

The meeting is open to the public and the public comment period is set for 11:30 a.m. The public may make oral statements before the Council or file written statements for the Council to consider. Depending on the number of persons wishing to make an oral statement, a per person time limit may be established. Summary minutes of the meeting will be available for public inspection and copying during regular business hours.

FOR FURTHER INFORMATION CONTACT: Richard Hotaling, Butte Field Office Manager and Designated Federal Official, (406) 533-7600.

SUPPLEMENTARY INFORMATION: The purpose of the Council is to advise the Secretary of the Interior, through the BLM, on a variety of planning and management issues associated with public land management. The 15 member Council includes individuals who have expertise, education, training or practical experience in the planning and management of public lands and their resources and who have a knowledge of the geographical jurisdiction of the Council.

Dated: November 21, 2001.
Scott Powers,
Dillon Field Manager.

[FR Doc. 01-32128 Filed 12-31-01; 8:45 am]

BILLING CODE 4310-$$-P